DEPARTMENT OF ENERGY

Federal Energy Regulatory Commission

[Project No. 7189-015]

Green Lake Water Power Company; Notice of Application Tendered for Filing With the Commission and Establishing Procedural Schedule for Licensing and Deadline for Submission of Final Amendments

Take notice that the following hydroelectric application has been filed with the Commission and is available for public inspection.

a. Type of Application: Subsequent Minor License.

b. Project No.: 7189-015.

c. Date Filed: March 31, 2022.

d. Applicant: Green Lake Water Power Company (Green Lake Power).

e. Name of Project: Green Lake Project (project).

f. Location: The existing project is located on Green Lake and Reeds Brook in Hancock County, Maine. The project occupies approximately two acres of the U.S. Fish and Wildlife Service's Green Lake National Fish Hatchery.

g. Filed Pursuant to: Federal Power Act, 16 U.S.C. 791 (a)-825(r).

h. Applicant Contact: Caroline Kleinschmidt, Green Lake Water Power Company, 120 Hatchery Way, Ellsworth, ME 04605; Phone at (207) 667-3322; or email at caroline@greenlakewaterpower.com.

i. FERC Contact: Nicholas Palso at (202) 502-8854, or nicholas.palso@ferc.gov.

j. This application is not ready for environmental analysis at this time.

k. Project Description: The existing Green Lake Project consists of: (1) A 273.2-foot-long, 7.5-foot-high dam that includes: (a) An 82-foot-long concrete-gravity section with an 80-foot-long overflow spillway that has a crest elevation of 160.7 feet United States Geological Survey (USGS) datum; (b) a 12-foot-long concrete intake structure with a 5-foot-wide, 5-foot-high headgate equipped with an 8-foot-wide, 12-foot-high trashrack; (c) a 22.2-foot-long concrete spillway section with two 6-foot-wide, 7-foot-high sluice gates and a crest elevation of 162.5 feet USGS datum; and (d) an approximately 157-foot-long section that includes a 35-foot-long auxiliary spillway with a crest elevation of approximately 162 feet USGS datum, and a 120-foot-long auxiliary spillway with a crest elevation of approximately 163 to 164 feet USGS datum; (2) an impoundment (Green Lake) with a surface area of 2,989 acres at an elevation of 160.7 feet USGS datum; (3) a 1,740-foot-long penstock; (4) a 27-foot-long, 35-foot-wide concrete powerhouse containing a 400-kilowatt (kW) Allis-Chalmers tube turbine-generator unit and a 25-kW centrifugal pump turbine-generator unit, for a total installed capacity of 425 kW; (5) two 50-foot-long, 5-foot-diameter powerhouse discharge pipes; (6) a 2.3/12.47-kilovolt (kV) step-up transformer and a 650-foot-long, 12.47-kV underground transmission line that connects the generators to the regional grid; and (7) appurtenant facilities. The project creates an approximately 1,900-foot-long bypassed reach of Reeds Brook.

The current license requires Green Lake Power to: (1) Maintain the elevation of Green Lake between 159.7 feet and 160.7 feet USGS datum from June 1 through Labor Day weekend each year, and between 157.5 feet and 160.7 feet USGS datum for the remainder of the year; (2) complete the fall drawdown of Green Lake by October 15 of each year; (3) reduce the elevation of Green Lake during the spring drawdown to no lower than the elevation attained on the previous October 15 of each year; and (4) release a year-round minimum flow to Reeds Brook of one cubic foot per second (cfs), or inflow to Green Lake, whichever is less, for the protection and enhancement of fish and wildlife resources downstream of the dam. In addition, the current license requires Green Lake Power to provide flows of up to 30 cfs to the FWS's Green Lake National Fish Hatchery (GLNFH).

The current license also requires Green Lake Power to install screens at the project intake to protect fish from turbine entrainment and prevent out-migration of adult salmonids from Green Lake. The existing screens have a two-inch mesh size and extend from the bottom of the intake to 2 feet above the crest of the spillway.

The average annual generation of the project was approximately 1,657.8 megawatt-hours from 2016 through 2020.

Green Lake Power proposes to modify the trashrack to have a consistent 1-inch clear bar spacing by either closing a two-inch gap at the side of the trashrack or reducing the gap to one inch. Green Lake Power is not proposing any changes to project operation.

l. In addition to publishing the full text of this notice in the Federal Register, the Commission provides all interested persons an opportunity to view and/or print the contents of this this notice, as well as other documents in the proceeding (e.g., license application) via the internet through the Commission's Home Page (http://www.ferc.gov) using the “eLibrary” link. Enter the docket number excluding the last three digits in the docket number field to access the document (P-7189). For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary schedule. Revisions to the schedule will be made as appropriate.

Milestone | Target date
Issue Deficiency Letter | April 2022.
Request Additional Information (if necessary) | May 2022.
Notice of Acceptance/Notice of Ready for Environmental Analysis | September 2022.
Filing of recommendations, preliminary terms and conditions, and fishway prescriptions | November 2022.

o. Final amendments to the application must be filed with the Commission no later than 30 days from the issuance date of the notice of ready for environmental analysis.

Dated: April 14, 2022.
Debbie-Anne A. Reese,
Deputy Secretary.

[FR Doc. 2022-08461 Filed 4-19-22; 8:45 am]

BILLING CODE 6717-01-P